DEPARTMENT OF THE TREASURY

Submission for OMB Review; Comment Request

November 22, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before January 3, 2003, to be assured of consideration.

Internal Revenue Service (IRS)

OMB Number: 1545-1231.

Regulation Project Number: IA-38-90 Final (T.D. 8382).

Type of Review: Extension.

Title: Penalty on Income Tax Return Preparers Who Understate Taxpayer's Liability on a Federal Income Tax Return or a Claim for Refund.

Description: These regulations set forth rules under section 6694 of the Internal Revenue Code regarding the penalty for understatement of a taxpayer's liability on a Federal income tax return or claim for refund. In certain circumstances, the preparer may avoid the penalty of disclosing on a form 8275 or by advising the taxpayer or another preparer that disclosure is necessary.

Respondents: Business or other for-profit, individuals or households.

Estimated Number of Respondents: 100,000.

Estimated Burden Hours Per Respondent: 30 minutes.

Frequency of Response: On occasion, annually.

Estimated Total Reporting Burden: 50,000 hours.

OMB Number: 1545-1509.

Form Number: IRS form 941 TeleFile.

Type of Review: Revision.

Title: Employer's Quarterly Federal Tax Return.

Description: Form 941 TeleFile is used by employers to report by phone payments made to employees subject to income and social security and Medicare taxes and the amounts of these taxes.

Respondents: Business or other for-profit, not-for-profit institutions, State, local or tribal government.

Estimated Number of Respondents/Recordkeepers: 230,000.

Estimated Burden Hours Per Respondent/Recordkeeper:

Form 941 |
Recordkeeping | 12 hr., 24 min.
Learning about the law or the form | 40 min.
Preparing the form | 1 hr., 49 min.
Copying, assembling, and sending the form to the IRS | 16 min.

Form 941 TeleFile |
Recordkeeping | 5 hr., 30 min.
Learning about the law or the Tax Record | 18 min.
Preparing the Tax Record | 24 min.
TeleFile phone call | 11 min.

Frequency of Response: Quarterly.

Estimated Total Reporting/Recordkeeping Burden: 5,740,000 hours.

OMB Number: 1545-1660.

Notice Number: Notice 99-43.

Type of Review: Extension.

Title: Nonrecognition Exchanges under Section 897.

Description: This notice announces a modification of the current rules under Temporary Regulation § 1.897-6T(a)(1) regarding transfers, exchanges, and other dispositions of U.S. real property interests in nonrecognition transactions occurring after June 18, 1980. The new rule will be included in regulations finalizing the temporary regulations.

Respondents: Business or other for-profit, individuals or households.

Estimated Number of Respondents: 100.

Estimated Burden Hours Per Respondent: 2 hours.

Frequency of Response: 200 hours.

Clearance Officer: Glenn Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Mary A. Able,
Departmental PRA Clearance Officer.

[FR Doc. 02-30750 Filed 12-3-02; 8:45 am]

BILLING CODE 4830-01-P